DEPARTMENT OF THE TREASURY

United States Mint

Notification of United States Mint 2009 Commemorative Coin Pricing

ACTION: Notification of United States Mint 2009 Commemorative Coin Pricing.

SUMMARY: The United States Mint is announcing the prices of the 2009 Abraham Lincoln Commemorative Silver Dollar and the 2009 Louis Braille Bicentennial Silver Dollar.

Public Laws 109-285 and 109-247 require the United States Mint to mint and issue the Abraham Lincoln Commemorative Silver Dollar and the Louis Braille Bicentennial Silver Dollar, respectively. These coins will be offered in both proof and uncirculated conditions. In addition, the uncirculated Louis Braille Bicentennial Silver Dollar will be offered in an easy-to-open capsule for those who would like to feel the tactile elements offered by the coin design.

The Abraham Lincoln Commemorative Silver Dollar will be offered at an introductory price on February 12, 2009, through March 16, 2009, when it will be offered at regular pricing. The Louis Braille Bicentennial Silver Dollar will be offered at introductory pricing beginning March 26, 2009, through April 27, 2009, when it will be offered at regular pricing. Pricing for all standard options under both programs are listed below.

Description | Introductory price | Regular price
Abraham Lincoln Commemorative Silver Dollar:
Proof Silver Dollar | $37.95 | $41.95
Uncirculated Silver Dollar | 31.95 | 33.95
Louis Braille Bicentennial Silver Dollar:
Proof Silver Dollar | 37.95 | 41.95
Uncirculated Silver Dollar | 31.95 | 33.95
Uncirculated Silver Dollar in Easy-Open Capsule | 31.95 | 33.95

FOR FURTHER INFORMATION CONTACT: B.B. Craig, Associate Director for Sales and Marketing; United States Mint; 801 Ninth Street, NW., Washington, DC 20220; or call 202-354-7500.

Authority: 31 U.S.C. 5111, 5112 & 9701; Public Law 109-285, sec. 6 (Sep. 27, 2006); Public Law 109-247, sec. 6 (July 27, 2006).

Dated: February 13, 2009.
Edmund C. Moy,
Director, United States Mint.

[FR Doc. E9-3562 Filed 2-18-09; 8:45 am]

BILLING CODE 4810-37-P